DEPARTMENT OF TRANSPORTATION

Federal Highway Administration

Environmental Impact Statement: Christian, Shelby, Fayette, Marion, Clinton, Jefferson and Washington Counties, IL

AGENCY: Federal Highway Administration (FHWA), DOT.

ACTION: Notice of Intent.

SUMMARY: The FHWA is issuing this notice to advise the public that an environmental impact statement will be prepared for a proposed highway project in Christian, Shelby, Fayette, Marion, Clinton, Jefferson, and Washington Counties, Illinois.

FOR FURTHER INFORMATION CONTACT: Norman R. Stoner, P.E., Division Administrator, Federal Highway Administration, 3250 Executive Park Drive, Springfield, Illinois 62703, Phone: (217) 492-4600. Christine Reed, P.E., Deputy Director of Highways, Region 4 Engineer, District 7, Illinois Department of Transportation, 400 W. Wabash, Effingham, Illinois 62401, Phone: (217) 342-8201.

SUPPLEMENTARY INFORMATION: The FHWA, in cooperation with the Illinois Department of Transportation, will prepare an environmental impact statement (EIS) on a proposal to improve US Route 51 located in the Illinois counties of Christian, Shelby, Fayette, Marion, Clinton, Jefferson, and Washington. The proposed improvement would involve the expansion of the existing 70-mile roadway facility between CR 900 N (South of Pana) to CR 2150 N (East of Irvington).

Improvements to the corridor are considered necessary due to increases in traffic volumes, operational issues, and State economic initiatives. Alternatives that may be considered include (1) taking no action; (2) combining the existing two-lane highway with widening to four lanes on existing and/or new location; and (3) constructing a four-lane highway on new location.

Improvements to US 51 have the potential to affect agricultural, biological, historical, and natural resources within the corridor. The corridor contains moderately prime farmland in rural areas. A nature preserve exists along the abandoned railroad right-of-way north of Ramsey and the palustrine wetlands of the Kaskaskia River basin area may be habitat for plant and animal species listed by State and Federal endangered and threatened wildlife and plants programs. The Kaskaskia drainage basin has potential to contain prehistoric archaeological sites. Historical resources located along US 51 include the Vandalia Statehouse and the First Presbyterian church in Vandalia. Hazardous waste sites exist within the corridor, including the Sandoval zinc smelter site and several tank farms east of US 51 near Patoka. In the urban limits of the corridor, residential areas adjacent to US 51 may be affected.

Letters describing the proposed action and soliciting comments will be sent to appropriate Federal, State, and local agencies. A public scoping meeting is planned for January 2008 and agency scoping meeting is planned for February 2008. Due to the length of the corridor, public meetings will be held in each region; north, central, and south. The first public meetings will take place in January 2008. Illinois' Context Sensitive Solutions (CSS) process will be used for public involvement. The project Web site is www.US51-IDOT.com. In addition to the public meetings, a public hearing and comment period will be held following the release of the Draft EIS. Public notice will be given for the time and place of the public meetings and hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: November 26, 2007.
Norman R. Stoner,
P.E., Division Administrator, Springfield, Illinois.

[FR Doc. 07-5881 Filed 11-29-07; 8:45 am]

BILLING CODE 4910-22-M